DEPARTMENT OF DEFENSE

Department of the Navy

Notice of Public Hearing for the Draft Environmental Impact Statement (EIS) for the Restoration of Clear Zones and Stormwater Drainage Systems at Boca Chica Field, Naval Air Station Key West, FL

AGENCY: Department of the Navy, DoD.

ACTION: Notice.

SUMMARY: Pursuant to Section 102(2)(C) of the National Environmental Policy Act (NEPA) of 1969, as implemented by the Council on Environmental Quality Regulations (40 CFR parts 1500-1508), the Department of the Navy (DON) has prepared and filed with the U.S. Environmental Protection Agency a Draft EIS to evaluate the potential environmental consequences of bringing the Boca Chica Airfield at Naval Air Station Key West into substantial compliance with Federal Aviation Administration safety regulations and DON air operations requirements.

The DON will conduct one public hearing to receive oral and written comments on the Draft EIS. Federal, state, and local agencies and interested individuals are invited to be present or represented at the public hearing. Navy representatives will be available to clarify information related to the Draft EIS. This notice announces the date and location of the public hearing for this Draft EIS.

Dates And Addresses: One public hearing will be held on December 07, 2006 at the Doubletree Grand Key Resort, 3990 South Roosevelt Boulevard, Key West, FL. Open information sessions will precede the scheduled public hearing and will allow individuals to review the data presented in the Draft EIS. Navy representatives will be available during the information sessions to clarify information related to the Draft EIS. The open information sessions are scheduled from 2 p.m. to 4 p.m. and from 6 p.m. to 7:30 p.m., followed by the public hearing from 7:30 to 9 p.m.

FOR FURTHER INFORMATION CONTACT: Naval Facilities Engineering Command, Southern Division (NAVFAC Southeast), 2155 Eagle Drive, North Charleston, SC 29406, Attn: Mr. Timothy Cardiasmenos, telephone 843-820-7340, facsimile 843-820-5563; E-Mail: timothy.cardiasmenos@navy.mil

SUPPLEMENTARY INFORMATION: A Notice of Intent to prepare this Draft EIS was published in the Federal Register, August 6, 2004. A public scoping meeting was held on Tuesday, August 24, 2004, at the Doubletree Grand Key Resort, 3990 S. Roosevelt Boulevard, Key West, FL.

The proposed action is to implement corrective measures that meet airfield safety clearance criteria and allow for the compliance with Naval Air Systems Command waivers.

Because of the size and complexity of this action, implementation will extend over several fiscal years, enabling the DON to incorporate lessons learned as the project evolves. Both restoration and maintenance measures will be completed in various locations at Boca Chica Field. Restoration measures include trimming and/or removal of vegetation that protrudes into vertically controlled airfield surfaces or those that should not be present in laterally controlled surfaces, clearing and grubbing, grading, filling low areas, replanting some areas with native salt marsh vegetation, and supplemental improvements to drainage conditions. Restoration methods will include the use of hand-clearing or mechanized methods (i.e., traditional construction equipment or specialized equipment). Maintenance methods will include mowing, hand-clearing, and others (i.e., herbicide and prescribed burning).

The Draft EIS considers three alternatives: (1) Restoration of Original Clear Zones; (2) Restoration of Clear Zones to meet Permanent Waivers, which includes a combination of vegetation management, and wetland and salt marsh conversion; and (3) The No-Action Alternative in accordance with section 1502.14(d) of the NEPA regulation. Alternative 2 is considered the Preferred Alternative. The DRAFT EIS evaluates the environmental effects associated with vegetation removal on airspace, safety, earth resources, land use, socioeconomic resources, infrastructure, cultural resources, and biological resources, including endangered and sensitive species, specifically the Lower Keys marsh rabbit (LKMR) and mangroves. Methods to reduce or minimize impacts to these species and essential fish habitat provided by mangroves in the clear zones are also addressed. The analysis includes an evaluation of the direct, indirect, and cumulative impacts. Implementation of the proposed action is not expected to result in any significant short- or long-term impacts on physical, socioeconomic, or biological resources, with the exception of the LKMR.

The Draft EIS has been distributed to various Federal, state, and local agencies, elected officials, and interested parties, and is available for public review at the Monroe County Public Library, Key West Branch, 700 Fleming Street, Key West, FL 33040.

Oral statements presented at the public hearing will be recorded, however, to ensure the accuracy of the record, all statements should be submitted in writing. All statements, both oral and written, will become part of the public record on the Draft EIS and will be responded to in the Final EIS. Equal weight will be given to both oral and written statements.

In the interest of available time and to ensure that all who wish to give an oral statement have the opportunity to do so, each speaker's comments will be limited to three minutes. If a longer statement is to be presented, it should be summarized at the public hearing and the full text submitted in writing either at the hearing or faxed or mailed to: NASKW EIS, c/o Naval Facilities Engineering Command, Southern Division (NAVFAC Southeast), 2155 Eagle Drive, North Charleston, SC 29406, Attn: Mr. Timothy Cardiasmenos, telephone 843-820-7340, facsimile 843-820-5563, E-Mail: timothy.cardiasmenos@navy.mil. All written comments postmarked by January 08, 2007, will become part of the official public record and will be responded to in the Final EIS.

Date: November 14, 2006.
M.A. Harvison,
Lieutenant Commander, Judge Advocate General's Corps, U.S. Navy, Federal Register Liaison Officer.

[FR Doc. E6-19612 Filed 11-20-06; 8:45 am]

BILLING CODE 3810-P